DEPARTMENT OF THE INTERIOR

Bureau of Land Management

[18XL1109AF LLUTG02000 L13100000.DO0000]

Notice of Termination of the San Rafael Swell Master Leasing Plan, Utah

AGENCY: Bureau of Land Management, Interior.

ACTION: Notice of termination.

SUMMARY: The preparation of an Environmental Assessment associated with the San Rafael Swell Master Leasing Plan Amendment is no longer required, and the process is hereby terminated. Pursuant to Section 102(2)(c) of the National Environmental Policy Act of 1969, as implemented by the Council on Environmental Quality regulations, the Bureau of Land Management (BLM) announced its intent to prepare an EA. The Notice of Intent (NOI) was published in the Federal Register on May 18, 2016. The Plan Amendment would have considered modifying oil and gas leasing decisions on approximately 525,000 acres in portion of the Price and Richfield Field Offices in Emery and Wayne Counties, Utah.

DATES: Termination of the planning process for Rafael Swell Master Leasing Plan Amendment takes effect immediately.

FOR FURTHER INFORMATION CONTACT: Chris Conrad, Price Field Manager, 125 South 600 West, Price, Utah 84501, telephone (435) 636-3600, email cconrad@blm.gov. Persons who use a telecommunications device for the deaf (TDD) may call the Federal Relay Service (FRS) at 1-800-877-8339 to contact the above individual during normal business hours. FRS is available 24 hours a day, 7 days a week, to leave a message or question with the above individual. You will receive a reply during normal business hours.

SUPPLEMENTARY INFORMATION: Since the publication of the NOI, the BLM issued Washington Office Instruction Memo 2018-034, which terminates the Master Leasing Process.

Authority: 40 CFR 1506.6, 40 CFR 1506.10.

Edwin L. Roberson,
State Director.

[FR Doc. 2018-15016 Filed 7-12-18; 8:45 am]

BILLING CODE 4310-DQ-P